SUSQUEHANNA RIVER BASIN COMMISSION

Public Hearing

AGENCY: Susquehanna River Basin Commission.

ACTION: Notice.

SUMMARY: The Susquehanna River Basin Commission will hold a public hearing on August 10, 2023. The Commission will hold this hearing in person and telephonically. At this public hearing, the Commission will hear testimony on the projects listed in the SUPPLEMENTARY INFORMATION section of this notice. Such projects are intended to be scheduled for Commission action at its next business meeting, tentatively scheduled for September 14, 2023, which will be noticed separately. The public should note that this public hearing will be the only opportunity to offer oral comments to the Commission for the listed projects. The deadline for the submission of written comments is August 21, 2023.

DATES: The public hearing will convene on August 10, 2023, at 6:30 p.m. The public hearing will end at 9:00 p.m. or at the conclusion of public testimony, whichever is earlier. The deadline for submitting written comments is Monday, August 21, 2023.

ADDRESSES: This public hearing will be conducted in person and virtually. You may attend in person at Susquehanna River Basin Commission, 4423 N. Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.net. Information concerning the project applications is available at the Commission's Water Application and Approval Viewer at https://www.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: Bent Creek Country Club, Manheim Township, Lancaster County, Pa. Applications for renewal of groundwater withdrawal of up to 0.464 mgd (30-day average) from Well 1 (600 Foot Well) and consumptive use of up to 0.464 mgd (peak day) (Docket No. 19920704).

2. Project Sponsor and Facility: BKV Operating, LLC (East Branch Wyalusing Creek), Jessup Township, Susquehanna County, Pa. Application for renewal of surface water withdrawal of up to 0.999 mgd (peak day) (Docket No. 20180902).

3. Project Sponsor: Borough of Middletown. Project Facility: Middletown Water System, Middletown Borough, Dauphin County, Pa. Application for renewal of groundwater withdrawal of up to 1.070 mgd (30-day average) from Well 6 (Docket No. 19970702).

4. Project Sponsor and Facility: Coterra Energy Inc. (Tunkhannock Creek), Nicholson Township, Wyoming County, Pa. Application for renewal of surface water withdrawal of up to 2.000 mgd (peak day) (Docket No. 20180903).

5. Project Sponsor and Facility: Dillsburg Area Authority, Carroll Township, York County, Pa. Application for renewal of groundwater withdrawal of up to 0.460 mgd (30-day average) from Well 7 (Docket No. 20070907).

6. Project Sponsor and Facility: Eagle Lake Community Association, Covington Township, Lackawanna County, Pa. Applications for groundwater withdrawals (30-day averages) of up to 0.233 mgd from Well 1, 0.315 mgd from Well 2, and 0.104 mgd from Well 3.

7. Project Sponsor and Facility: East Berlin Area Joint Authority, Hamilton Township, Adams County, Pa. Application for renewal of groundwater withdrawal of up to 0.130 mgd (30-day average) from Well 6 (Docket No. 20080950).

8. Project Sponsor and Facility: East Cocalico Township Authority, East Cocalico Township, Lancaster County, Pa. Application for renewal of groundwater withdrawal of up to 0.201 mgd (30-day average) from Well 14 (Docket No. 19981202).

9. Project Sponsor and Facility: EQT ARO LLC (Pine Creek), McHenry Township, Lycoming County, Pa. Application for renewal of surface water withdrawal of up to 0.499 mgd (peak day) (Docket No. 20180901).

10. Project Sponsor and Facility: Indian Hills Golf and Tennis Club, Shamokin Township, Northumberland County, Pa. Application for renewal of consumptive use of up to 0.099 mgd (30-day average) (Docket No. 19980504).

11. Project Sponsor and Facility: Inflection Energy (PA) LLC (Loyalsock Creek), Upper Fairfield Township, Lycoming County, Pa. Application for renewal of surface water withdrawal of up to 1.700 mgd (peak day) (Docket No. 20221214).

12. Project Sponsor: Lucky Bear, LLC. Project Facility: Liberty Forge Golf Course (Yellow Breeches Creek), Lower and Upper Allen Townships, Cumberland County, Pa. Applications for renewal of surface water withdrawal of up to 0.432 mgd (peak day) and consumptive use of up to 0.375 mgd (peak day) (Docket No. 19980906).

13. Project Sponsor and Facility: Montgomery Water Authority, Clinton Township, Lycoming County, Pa. Modification to increase groundwater withdrawal (30-day average) from Well 3 by an additional 0.098 mgd, for a total groundwater withdrawal of up to 0.318 mgd, and increase the total system withdrawal limit (30-day average) from 0.492 mgd to 0.730 mgd from Wells 1, 3, and 4 (Docket No. 20210304).

14. Project Sponsor and Facility: Nicholas Meat, LLC, Greene Township, Clinton County, Pa. Applications for groundwater withdrawals (30-day averages) of up to 0.288 mgd from Well WS-1, 0.173 mgd from Well WS-3, and 0.144 mgd from Well WS-4.

15. Project Sponsor and Facility: Repsol Oil & Gas USA, LLC (Susquehanna River), Terry Township, Bradford County, Pa. Application for renewal of surface water withdrawal of up to 1.500 mgd (peak day) (Docket No. 20180909).

16. Project Sponsor and Facility: Repsol Oil & Gas USA, LLC (Wappasening Creek), Windham Township, Bradford County, Pa. Application for renewal of surface water withdrawal of up to 0.999 mgd (peak day) (Docket No. 20180910).

17. Project Sponsor and Facility: Seneca Resources Company, LLC (Crooked Creek), Middlebury Township, Tioga County, Pa. Application for surface water withdrawal of up to 3.000 mgd (peak day).

18. Project Sponsor: South Slope Development Corporation. Project Facility: Song Mountain Ski Resort, Town of Preble, Cortland County, N.Y. Applications for renewal of surface water withdrawal of up to 0.999 mgd (30-day average) from an unnamed tributary to Crooked Lake, consumptive use of up to 0.249 mgd (30-day average), and groundwater withdrawal of up to 0.960 mgd (30-day average) from Well MW-3 (Docket No. 20070901).

19. Project Sponsor and Facility: S.T.L. Resources, LLC (Pine Creek), Pike Township, Potter County, Pa. Application for surface water withdrawal of up to 3.000 mgd (peak day).

20. Project Sponsor: T & C Mobile Home & Construction Services, LLC. Project Facility: Glezen Mine, Town of Lisle, Broome County, N.Y. Application for consumptive use of up to 0.099 mgd (30-day average).

21. Project Sponsor and Facility: Village of Hamilton, Town of Hamilton, Madison County, N.Y. Applications for renewal of groundwater withdrawals (30-day averages) of up to 1.730 mgd from Payne Brook Well 1 and 1.500 mgd from Payne Brook Well 2 (Docket Nos. 19871101 and 19970706).

22. Project Sponsor and Facility: Village of Sidney, Town of Sidney, Delaware County, N.Y. Modification to extend the approval term of the groundwater withdrawal approval (Docket No. 19860201) to provide time for development of a replacement source for existing Well 2-88.

Opportunity to Appear and Comment

Interested parties may call into the hearing to offer comments to the Commission on any business listed above required to be the subject of a public hearing. Given the nature of the meeting, the Commission strongly encourages those members of the public wishing to provide oral comments to pre-register with the Commission by emailing Jason Oyler at joyler@srbc.net before the hearing date. The presiding officer reserves the right to limit oral statements in the interest of time and to control the course of the hearing otherwise. Access to the hearing via telephone will begin at 6:15 p.m. Guidelines for the public hearing are posted on the Commission's website, www.srbc.net, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before Monday, August 21, 2023, to be considered.

Authority: Public Law 91-575, 84 Stat. 1509 et seq., 18 CFR parts 806, 807, and 808.

Dated: July 6, 2023.
Jason E. Oyler,
General Counsel and Secretary to the Commission.

[FR Doc. 2023-14676 Filed 7-11-23; 8:45 am]

BILLING CODE 7040-01-P